DEPARTMENT OF TRANSPORTATION

Surface Transportation Board

[STB Docket No. AB-868X; 869X]

Mississippi Tennessee Holdings, LLC—Abandonment Exemption—in Union, Pontotoc and Chickasaw Counties, MS and Discontinuance of Service Exemption—in Union, Pontotoc and Chickasaw Counties, MS

On April 7, 2004, Mississippi Tennessee Holdings, LLC (MTH) and Mississippi Tennessee Railroad LLC (MTR) jointly filed with the Board a petition under 49 U.S.C. 10502 for exemption from the provisions of 49 U.S.C. 10903. MTH seeks to abandon and MTR seeks to discontinue service over a line of railroad extending from milepost 324.2 near New Albany and the end of the line at milepost 281.0 near Houston, MS, a distance of 43.2 miles in Union, Pontotoc and Chickasaw Counties, MS. The line traverses United States Postal Service Zip Codes 38863, 38850 and 38851 and includes stations located at Pontotoc, Houlka and Houston, MS.

The line does not contain federally granted rights-of-way. Any documentation in possession of MTH or MTR will be made available promptly to those requesting it.

The interest of railroad employees will be protected by the conditions set forth in Oregon Short Line R. Co.—Abandonment—Goshen, 360 I.C.C. 91 (1979).

By issuing this notice, the Board is instituting an exemption proceeding pursuant to 49 U.S.C. 10502(b). A final decision will be issued by July 26, 2004.

Any offer of financial assistance (OFA) under 49 CFR 1152.27(b)(2) will be due no later than 10 days after service of a decision granting the petition for exemption. Each OFA must be accompanied by a $1,100 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than May 17, 2004. Each trail use request must be accompanied by a filing fee, which will be $200 as of April 28, 2004. See 49 CFR 1002.2(f)(27), as amended in Regulations Governing Fees for Services Performed in Connection with Licensing and Related Services—2002 New Fees, STB Ex Parte No. 542 (Sub-No. 4) (STB served and published Mar. 29, 2004) (69 FR 16173).

All filings in response to this notice must refer to STB Docket Nos. AB-868X and AB-869X and must be sent to (1) Surface Transportation Board, 1925 K Street, NW., Washington, DC 20423-0001, and (2) Thomas F. McFarland, 208 South LaSalle Street, Suite 1890, Chicago, IL 60604-1112. Replies to the petition are due on or before May 17, 2004.

Persons seeking further information concerning abandonment procedures may contact the Board's Office of Public Services at (202) 565-1592 or refer to the full abandonment or discontinuance regulations at 49 CFR part 1152. Questions concerning environmental issues may be directed to the Board's Section of Environmental Analysis (SEA) at (202) 565-1539. (Assistance for the hearing impaired is available through the Federal Information Relay Service (FIRS) at 1-800-877-8339).

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our Web site at www.stb.dot.gov.

Decided: April 19, 2004.
By the Board, David M. Konschnik, Director, Office of Proceedings.
Vernon A. Williams,
Secretary.

[FR Doc. 04-9255 Filed 4-26-04; 8:45 am]

BILLING CODE 4915-01-P